DEPARTMENT OF COMMERCE

International Trade Administration

[A-570-049]

Ammonium Sulfate From the People's Republic of China: Final Affirmative Determination of Sales at Less Than Fair Value

AGENCY: Enforcement and Compliance, International Trade Administration, U.S. Department of Commerce.

SUMMARY: The U.S. Department of Commerce (“the Department”) determines that ammonium sulfate from the People's Republic of China (“PRC”) is being, or is likely to be, sold in the United States at less than fair value (“LTFV”). The period of investigation is October 1, 2015, through March 31, 2016. The final dumping margin of sales at LTFV is listed below in the “Final Determination” section of this notice.

DATES: Effective January 25, 2017.

FOR FURTHER INFORMATION CONTACT: Maliha Khan, AD/CVD Operations, Office IV, Enforcement and Compliance, International Trade Administration, U.S. Department of Commerce, 1401 Constitution Avenue NW., Washington, DC 20230; telephone: (202) 482-0895.

SUPPLEMENTARY INFORMATION:

Background

On November 9, 2016, the Department published the Preliminary Determination.¹ Interested parties were invited to submit comments on the Preliminary Determination,² but no comments were received. Additionally, no party requested a hearing.

¹ See Ammonium Sulfate from the People's Republic of China: Preliminary Determination of Sales at Less Than Fair Value, 81 FR 78776 (November 9, 2016) (“Preliminary Determination”), and accompanying Preliminary Issues and Decision Memorandum (“PDM”).

² See Preliminary Determination, 81 FR 78776-78777; see also Ammonium Sulfate from the People's Republic of China: Correction to the Preliminary Determination of Sales at Less Than Fair Value, 81 FR 84554 (November 23, 2016).

Scope of the Investigation

The scope of the investigation covers ammonium sulfate from the PRC. For a complete description of the scope of this investigation, see Appendix I.

Analysis of Comments Received

As noted above, we received no comments in response to the Preliminary Determination.

Use of Adverse Facts Available

As stated in the Preliminary Determination, we found that the PRC-wide entity was unresponsive to the Department's requests for information. Specifically, as discussed in the Preliminary Decision Memorandum, of the 95 companies identified in the petition, only five submitted quantity and value (“Q&V”) information. However, none of the Q&V responses were useable for respondent selection because three of the five responses submitted no shipment notifications and the remaining two included Q&V data showing that the companies did not ship to the United States the subject merchandise during the period of investigation.³ Without a useable Q&V response from a potential respondent, we were unable to select a mandatory respondent for individual examination in accordance with our normal methodology and calculate a rate. Therefore, the Department found that the PRC-wide entity failed to provide necessary information, withheld information requested by the Department, failed to provide information in a timely manner, and significantly impeded this proceeding by not submitting the requested information. Furthermore, because the PRC-wide entity failed to provide any information, for this final determination, the Department continues to find that use of facts available is warranted in determining the rate of the PRC-wide entity, pursuant to sections 776(a)(1) and (a)(2)(A)-(C) of the Tariff Act of 1930, as amended (“the Act).⁴

³ See Preliminary Determination, and PDM at 4.

⁴ See, e.g., Notice of Preliminary Determination of Sales at Less Than Fair Value, Affirmative Preliminary Determination of Critical Circumstances and Postponement of Final Determination: Certain Frozen Fish Fillets From the Socialist Republic of Vietnam, 68 FR 4986, 4991 (January 31, 2003), unchanged in Notice of Final Determination of Sales at Less Than Fair Value and Affirmative Critical Circumstances: Certain Frozen Fish Fillets from the Socialist Republic of Vietnam, 68 FR 37116 (June 23, 2003).

Final Determination

The final weighted-average dumping margin is as follows:

Exporter/producer | Weighted-average margin (percent)
PRC-Wide Entity | 493.46

Disclosure

The weighted-average dumping margin assigned to the PRC-wide entity in the Preliminary Determination was based on adverse facts available. As we have made no changes to the margin since the Preliminary Determination, no disclosure of calculations is necessary for this final determination.

Continuation of Suspension of Liquidation

In accordance with section 735(c)(1)(B) of the Act, the Department will instruct U.S. Customs and Border Protection (“CBP”) to continue to suspend liquidation of all appropriate entries of ammonium sulfate from the PRC, as described in Appendix I of this notice, which were entered, or withdrawn from warehouse, for consumption on or after November 9, 2016, the date of publication in the Federal Register of the affirmative Preliminary Determination.

Further, pursuant to section 735(c)(1)(B)(ii) of the Act, the Department will also instruct CBP to require for all PRC exporters/producers of merchandise under consideration, and all non-PRC exporters of merchandise under consideration, the cash deposit rate applicable for the PRC-wide entity, 493.46 percent.⁵

⁵ See Modification of Regulations Regarding the Practice of Accepting Bonds During the Provisional Measures Period in Antidumping and Countervailing Duty Investigations, 76 FR 61042, 64137 (October 3, 2011).

The Department is making no adjustments to the antidumping cash deposit rate in the instant investigation because the Department has made no findings in the companion countervailing duty investigation that any of the programs are export subsidies.

International Trade Commission Notification

In accordance with section 735(d) of the Act, we will notify the U.S. International Trade Commission (“ITC”) of the final affirmative determination of sales at LTFV. Because the final determination in this proceeding is affirmative, in accordance with section 735(b)(2) of the Act, the ITC will make its final determination as to whether the domestic industry in the United States is materially injured, or threatened with material injury by reason of imports of ammonium sulfate from the PRC no later than 45 days after this final determination. If the ITC determines that material injury or threat of material injury does not exist, the proceeding will be terminated and all cash deposits will be refunded. If the ITC determines that such injury does exist, the Department will issue an antidumping duty order directing CBP to assess, upon further instruction by the Department, antidumping duties on all imports of the subject merchandise entered, or withdrawn from warehouse, for consumption on or after the effective date of the suspension of liquidation.

Notification Regarding Administrative Protective Orders

This notice serves as a reminder to parties subject to an administrative protective order (“APO”) of their responsibility concerning the disposition of proprietary information disclosed under APO in accordance with 19 CFR 351.305(a)(3). Timely notification of the return of destruction of APO materials, or conversion to judicial protective order, is hereby requested. Failure to comply with the regulations and the terms of an APO is a sanctionable violation.

This determination is issued and published in accordance with sections 735(d) and 777(i)(1) of the Act, and 19 CFR 351.210(c).

Dated: January 17, 2017.
Paul Piquado,
Assistant Secretary, for Enforcement and Compliance.

Appendix I

Scope of the Investigation

The merchandise covered by this investigation is ammonium sulfate in all physical forms, with or without additives such as anti-caking agents. Ammonium sulfate, which may also be spelled as ammonium sulphate, has the chemical formula (NH4)2SO4.

The scope includes ammonium sulfate that is combined with other products, including by, for example, blending (i.e., mixing granules of ammonium sulfate with granules of one or more other products), compounding (i.e., when ammonium sulfate is compacted with one or more other products under high pressure), or granulating (incorporating multiple products into granules through, e.g., a slurry process). For such combined products, only the ammonium sulfate component is covered by the scope of this investigation.

Ammonium sulfate that has been combined with other products is included within the scope regardless of whether the combining occurs in countries other than China.

Ammonium sulfate that is otherwise subject to this investigation is not excluded when commingled (i.e., mixed or combined) with ammonium sulfate from sources not subject to this investigation. Only the subject component of such commingled products is covered by the scope of this investigation.

The Chemical Abstracts Service (CAS) registry number for ammonium sulfate is 7783-20-2.

The merchandise covered by this investigation is currently classifiable under Harmonized Tariff Schedule of the United States (HTSUS) subheading 3102.21.0000. Although this HTSUS subheading and CAS registry number are provided for convenience and customs purposes, the written description of the scope of the investigation is dispositive.

[FR Doc. 2017-01653 Filed 1-24-17; 8:45 am]

BILLING CODE 3510-DS-P